DEPARTMENT OF COMMERCE

Bureau of Economic Analysis

Proposed Data Sharing Activity

AGENCY: Bureau of Economic Analysis, Department of Commerce.

ACTION: Notice and request for public comment.

SUMMARY: The Bureau of Economic Analysis (BEA) proposes to provide to the Bureau of Labor Statistics (BLS) data collected from several surveys that it conducts on U.S. direct investment abroad, foreign direct investment in the United States, and U.S. international services transactions for statistical purposes exclusively. In accordance with the requirement of Section 524(d) of the Confidential Information Protection and Statistical Efficiency Act of 2002 (CIPSEA), we are providing the opportunity for public comment on this data-sharing action.

The data provided to BLS will be used for two purposes:

(1) The BLS International Price Program is researching the feasibility of producing price indexes for imports and exports of services, such as financial services, film and tape rentals, and royalties and license fees. BLS will use data from BEA surveys to develop sample frames of companies that trade these services and to directly collect price information from the selected companies. BLS will also use BEA data as weighting sources for the price indexes. Should it prove feasible to produce price indexes for international services, BEA will share data collected in its direct investment and international services surveys with BLS each time BLS draws a new sample and reweights the indexes. BLS will share sample frame and revenue information that it collects with BEA, which will allow BEA to identify errors or omissions in the data collected on its surveys. This data sharing effort will improve the quality of price indexes for imported and exported services that BEA uses in compiling the National Income and Product Accounts.

(2) The BLS Division of Foreign Labor Statistics will use BEA data collected on employment, compensation, and (as available) hours worked at the foreign affiliates of U.S. multinational companies to estimate their hourly compensation costs for research comparing the levels and trends of hourly compensation costs of foreign affiliates with the average costs for establishments in the same industries and same host countries as the affiliates.

DATES: Written comments must be submitted on or before February 4, 2008.

ADDRESSES: Please direct all written comments on this proposed program to the Director, Bureau of Economic Analysis (BE-1), Washington, DC 20230.

FOR FURTHER INFORMATION CONTACT: Requests for additional information on this proposed program should be directed to Maria Borga, Bureau of Economic Analysis (BE-50), Washington, DC 20230, by phone on (202) 606-9853, via the Internet at Maria.Borga@bea.gov, or by fax on (202) 606-5318.

SUPPLEMENTARY INFORMATION:

Background

CIPSEA (Pub. L. 107-347, Title V) and the International Investment and Trade in Services Survey Act (Pub. L. 94-472, 22 United States Code (U.S.C.) 3101-3108) allow BEA and BLS to share certain business data for exclusively statistical purposes. Section 524(d) of the CIPSEA requires a Federal Register notice announcing the intent to share data (allowing 60 days for public comment), since BEA respondents were required by law to report the data. Section 524(d) also requires us to provide information about the terms of the agreement for data sharing. For purposes of this notice, BEA has decided to group these terms by three categories.

The categories are:

• Shared data.

• Statistical purposes for the shared data.

• Data access and confidentiality.

Shared Data

BEA proposes to provide BLS with data from its surveys of U.S. direct investment abroad, foreign direct investment in the United States, and U.S. international services transactions. BLS will use these data for statistical purposes exclusively.

Statistical Purposes for the Shared Data

Data collected in BEA's surveys of direct investment are used to develop estimates of the financing and operations of U.S. parent companies, their foreign affiliates, and U.S. affiliates of foreign companies, and estimates of transactions between parents and affiliates. Data collected in BEA's surveys of U.S. international services transactions are used to develop estimates of services transactions between U.S. persons (in a broad legal sense, including companies) and foreign persons. These estimates are published in the Survey of Current Business, BEA's monthly journal; in other BEA publications; and on BEA's Web site at http://www.bea.gov/. All data are collected under sections 3101-3108, of Title 22, U.S.C.

The shared data will be used for several exclusively statistical purposes by both agencies, such as the production of price indexes for imported and exported services and the making of international comparisons between the hourly compensation costs at the foreign affiliates of U.S. multinational companies and the average costs for establishments in the same industries and same host countries as the foreign affiliates.

Data Access and Confidentiality

Title 22, U.S.C. 3104 protects the confidentiality of the data to be provided by BEA to BLS. The data may be seen only by persons sworn to uphold the confidentiality of the information. Access to the shared data will be restricted to specifically authorized personnel and will be provided for statistical purposes only. Any results of this research are subject to BEA disclosure protection. All BLS employees with access to these data will become BEA Special Sworn Employees—meaning that they, under penalty of law, must uphold the data's confidentiality.

J. Steven Landefeld,
Director, Bureau of Economic Analysis.

[FR Doc. E7-23506 Filed 12-3-07; 8:45 am]

BILLING CODE 3510-06-P